DEPARTMENT OF HOUSING AND URBAN DEVELOPMENT

[Docket No. FR-5922-N-01]

Alternative Requirements for the Family Unification Program (FUP)

AGENCY: Office of the Assistant Secretary for Public and Indian Housing, HUD.

ACTION: Notice.

SUMMARY: The Consolidated and Further Continuing Appropriations Act of 2015, authorizes the Secretary to carry out a demonstration testing the effectiveness of combining vouchers for homeless youth under Family Unification Program authorized under section 8(x) of the United States Housing Act of 1937 (“the Act”) with assistance under the Family Self-Sufficiency (FSS) program authorized under section 23 of the Act. The Secretary was authorized to establish alternative requirements to those contained in section 8(x) of the Act to facilitate the demonstration. This notice provides an alternative requirement to facilitate the operation of this demonstration. Specifically, this notice extends the 18-month time limit to match the length of the FSS contract, typically five years. Implementation of this demonstration will be through a notice issued by the Office of Public and Indian Housing.

DATES: Effective date: January 25, 2016.

FOR FURTHER INFORMATION CONTACT: Ryan Jones, Office of Public Housing and Voucher Programs, Office of Housing and Urban Development, 451 7th Street SW., Washington, DC 20410-7000; telephone number 202-402-2677 (this is not a toll-free number). Hearing and speech-impaired persons may access these numbers through TTY by call the Federal Relay Service as 800-877-8339 (this is a toll-free number).

SUPPLEMENTARY INFORMATION:

The comprehensive document titled “Opening Doors: Federal Strategic Plan to Prevent and End Homelessness” sets the goal of ending homelessness for youth (along with families and children) by the year 2020. FUP is a vital tool in achieving this goal.

In a HUD study of the FUP program, a major barrier to greater youth participation was the time limit on the rental subsidy.¹ PHAs and public child welfare agencies (PCWAs) suggested the 18-month time limit is too short, noting that landlords generally prefer annual leases with full 12-month renewals. The limited time causes high turnover rates demanding greater staff resources and creating greater administrative costs. The 18-month restriction does not align with a standard academic term for youth enrolled in an education program. Finally, youth simply need more time to become self-sufficient and transition to independent living.

¹ The Family Unification Program: A Housing Resources for Youth Aging Our of Foster Care, published May 2014. This study is available at http://www.huduser.gov/portal/youth_foster_care.html.

Implementation of this demonstration requires will be through a notice issued by the Office of Public and Indian Housing. Participation in the demonstration requires adherence to the requirements outlined in a Public and Indian Housing notice issued in supplement to this Federal Register notice and available at http://portal.hud.gov/hudportal/documents/huddoc?id=16-01pihn.pdf.

Applicable Alternative Requirements

To facilitate the operation of a FUP demonstration, the Consolidated and Further Continuing Appropriations Act of 2015, authorizes the Secretary by Federal Register notice to establish alternative requirements to those contained in Section 8(x) of the 1937 Act. Under this authority, the Secretary hereby authorizes the following alternative requirement, which has the effect of modifying the FUP statute.

Waiver allowing the extension of the 18-month time limit for FUP assistance to match the length of the FSS contract for youth participating in the demonstration.

Participation in the demonstration requires adherence to the requirements outlined in a Public and Indian Housing notice issued in supplement to this Federal Register notice.

Dated: January 15, 2016.
Lourdes Castro Ramírez,
Principal Deputy Assistant Secretary, Office of Public and Indian Housing.

[FR Doc. 2016-01374 Filed 1-22-16; 8:45 am]

BILLING CODE 4210-67-P